DEPARTMENT OF HEALTH AND HUMAN SERVICES

National Institutes of Health

Submission for OMB Review; Comment Request; Agricultural Health Study—A Prospective Cohort Study of Cancer and Other Diseases Among Men and Women in Agriculture

SUMMARY: Under the provisions of Section 3507(a)(1)(D) of the Paperwork Reduction Act of 1995, the National Cancer Institute (NCI), the National Institutes of Health (NIH) has submitted to the Office of Management and Budget (OMB) a request for review and approval of the information collection listed below. This proposed information collection was previously published in the Federal Register on August 1, 2003, pages 45257-8 and allowed 60 days for public comment. Comments were received from two individuals, both of whom are contractors interested in the potential for conducting portions of the proposed information collection activities. The purpose of this notice is to allow an additional 30 days for public comment. The National Institutes of Health may not conduct or sponsor, and the respondent is not required to respond to, an information collection that has been extended, revised, or implemented on or after October 1, 1995, unless it displays a currently valid OMB control number.

Proposed Collection

Title: Agricultural Health Study—A Prospective Cohort Study of Cancer and Other Diseases Among Men and Women in Agriculture. Type of Information Collection Request: Revision of a currently approved collection (0925-0406, expiration 11/31/03). Need and Use of Information Collection: The Agricultural Health Study is in its 5th year of follow-up data collection on a prospective cohort of 89,658 farms, their spouses, and commercial applicators of pesticides from Iowa and North Carolina. Follow-up is not yet complete for a segment of the cohort, commercial applicators (n = 4,916). An extension until November 30, 2005 is requested to complete this data collection. Frequency of Response: Single time reporting. Affected Public: Individuals. Type of Respondents: Commercial pesticide applicators. The annual reporting burden is as follows: Estimated Number of Respondents: 2,548 Estimated Number of Responses per Respondent: 1.0; Average Burden Hours Per Response: 1.74; and Estimated Total Annual Burden Hours Requested: 3,707. The annualized cost to respondents is estimated at: $59,312. There are no Capital Costs to report. There are no Operating or Maintenance Costs to report.

Request for Comments

Written comments and/or suggestions from the public and affected agencies are invited on one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

Direct Comments to OMB

Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments contact: Michael C.R. Alavanja, Dr. P.H., Epidemiology and Biostatistics Program, Division of Cancer Etiology, National Cancer Institute, EPN 8000, 6120 Executive Boulevard, Rockville, MD 20852, or call (310) 435-4720, or E-mail your request, including your address to: alavanjam@mail.nih.gov

Comments Due Date

Comments regarding this information collection are best assured of having their full effect if received within 30 days of the date of this publication.

Dated: September 26, 2003.
Reesa Nichols,
NCI Project Clearance Liaison.

[FR Doc. 03-25068 Filed 10-2-03; 8:45 am]

BILLING CODE 4140-01-M